DEPARTMENT OF DEFENSE

Office of the Secretary

32 CFR Part 160

[DoD Instruction 5000.35]

Defense Acquisition Regulations (DAR) System

AGENCY: Department of Defense.

ACTION: Final rule.

SUMMARY: This final rule removes the DoD's rule concerning the management and operation of the Defense Acquisition Regulations (DAR) System. The part has served the purpose for which it was intended for the Code of Federal Regulations, and is no longer necessary.

DATES: Effective Date: January 16, 2009.

FOR FURTHER INFORMATION CONTACT: Ms. Patricia L. Toppings at 703-696-5284.

SUPPLEMENTARY INFORMATION: A copy of the current DoD Instruction may be obtained from http://www.dtic.mil/whs/directives/corres/pdf/500035p.pdf.

List of Subjects in 32 CFR Part 160

Armed forces; government procurement.

PART 160—[REMOVED]

Accordingly, by the authority of 10 U.S.C. 301, 32 CFR part 160 is removed.

Dated: January 12, 2009.
Patricia L. Toppings,
OSD Federal Register Liaison Officer, Department of Defense.

[FR Doc. E9-877 Filed 1-15-09; 8:45 am]

BILLING CODE 5001-06-P